DEPARTMENT OF THE INTERIOR

Bureau of Indian Affairs

Renewal of Agency Information Collection for the Bureau of Indian Education Information Collection Activities; Request for Comments

AGENCY: Bureau of Indian Affairs, Interior.

ACTION: Notice of request for comments.

SUMMARY: In compliance with the Paperwork Reduction Act of 1995, the Bureau of Indian Affairs (BIA) is submitting to the Office of Management and Budget (OMB) a request for renewal for the collection of information for the Application for Admission to Haskell Indian Nations University and to Southwestern Indian Polytechnic Institute authorized by OMB Control Number 1076-0114, the Student Transportation Form, authorized by OMB Control Number 1076-0134, and the Data Elements for Student Enrollment in Bureau-funded Schools, authorized by OMB Control Number 1076-0122. These information collections expire March 30, 2012.

DATES: Interested persons are invited to submit comments on or before April 30, 2012.

ADDRESSES: You may submit comments on the information collections to the Desk Officer for the Department of the Interior at the Office of Management and Budget, by facsimile to (202) 395-5806 or you may send an email to: OIRA_DOCKET@omb.eop.gov. Please send a copy of your comments to Juanita Keesing, Program Analyst, U.S. Department of the Interior, Bureau of Indian Education, 1849 C Street NW., Washington, DC 20240; email: Juanita.Keesingt@bie.edu.

FOR FURTHER INFORMATION CONTACT: Juanita Keesing, Program Analyst, (202) 208-3559. You may review the information collection requests online at http://www.reginfo.gov. Follow the instructions to review Department of the Interior collections under review by OMB.

SUPPLEMENTARY INFORMATION:

I. Abstract

These collections help support the educational efforts for American Indian and Alaska Native students from elementary through post-secondary levels.

Application for Admission to Haskell & SIPI

The BIA is requesting renewal of OMB approval for the admission forms for Haskell Indian Nations University and the Southwestern Indian Polytechnic Institute. These admission forms are used in determining program eligibility of American Indian and Alaska Native students for educational services. These forms are utilized pursuant to 25 U.S.C. 2 and 2007(f). Adjustments were made to the total annual cost burden to accurately reflect the cost to submit the applications, in addition to the filing fee per application for Haskell.

Student Transportation Form

The BIA is requesting renewal of OMB approval for the Student Transportation Form. The Student Transportation regulations in 25 CFR part 39, subpart G, contain the program eligibility and criteria that govern the allocation of transportation funds. Information collected from the schools will be used to determine the rate per mile. The information collection provides transportation mileage for Bureau-funded schools, which determines the allocation of transportation funds. The burden hours has decreased from six to two hours due to the implementation of the Web-based system, NASIS, to collect this information, which has reduced the total annual burden hours from 726 to 366 hours. There is an increase in the average number of respondents to this collection from 121 to 183, to accurately reflect the number of respondents.

Data Elements for Student Enrollment in Bureau-Funded Schools

The BIA is requesting renewal of OMB approval for the Student Enrollment Application in Bureau-funded Schools. School registrars collect information on this form to determine the student's eligibility for enrollment in a Bureau-funded school, and if eligible, to identify the student's base and supplemental educational and/or residential program needs. The Bureau of Indian Education compiles the information into a national database to facilitate budget requests and the allocation of congressionally appropriated funds.

II. Request for Comments

The BIA requests your comments on these collections concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, email address or other personally identifiable information, be advised that your entire comment—including your personally identifiable information—may be made public at any time. While you may request that we withhold your personally identifiable information, we cannot guarantee that we will be able to do so.

III. Data

OMB Control Number: 1076-0114.

Title: Application for Admission to Haskell Indian Nations University and to Southwestern Indian Polytechnic Institute.

Brief Description of Collection: Submission of these eligibility applications forms is mandatory in determining a student's eligibility for educational services. The information is collected on one of two forms: Application for Admission to Haskell Indian Nations University form and Application for Admission to Southwestern Indian Polytechnic Institute form.

Type of Review: Extension without change of a currently approved collection.

Respondents: Students.

Number of Respondents: 4,000 per year, on average.

Total Number of Responses: 4,000 per year, on average.

Frequency of Response: Once per year for Haskell; each trimester for SIPI.

Estimated Time per Response: 30 minutes per Haskell application; 30 minutes per SIPI application.

Estimated Total Annual Hour Burden: 2,000 hours.

Estimated Total Annual Cost Burden: $12,240 is the estimated total annual cost burden. We estimate 1,000 Haskell applications at $10 filing fee per application. There is no fee to apply to SIPI. The costs for postage and envelopes to submit an application are included for Haskell and SIPI.

* * * * *

OMB Control Number: 1076-0134.

Title: Student Transportation Form.

Brief Description of Collection: This annual collection provides pertinent data concerning the school's bus transportation mileage and related long distance travel mileage to determine funding levels for school transportation. This information is collected on the Indian School Equalization Program (ISEP) Student Transportation form.

Type of Review: Extension without change of a currently approved collection.

Respondents: Contract and Grant schools; Bureau-operated schools.

Number of Respondents: 183 per year, on average.

Total Number of Responses: 183 per year, on average.

Frequency of Response: Once per year.

Estimated Time per Response: 2 hours.

Estimated Total Annual Burden: 366 hours.

* * * * *

OMB Control Number: 1076-0122.

Title: Data Elements for Student Enrollment in Bureau-funded Schools.

Brief Description of Collection: This annual collection provides Bureau-funded schools with data about students to determine placement, special needs assessment, and funding for individuals and assists schools in developing a plan for the school year. The information is collected on a Student Enrollment Application form.

Type of Review: Extension without change of a currently approved collection.

Respondents: Contract and Grant schools; Bureau-operated schools.

Number of Respondents: 48,000 per year, on average.

Total Number of Responses: 48,000 per year, on average.

Frequency of Response: Once per year.

Estimated Time per Response: 15 minutes.

Estimated Total Annual Burden: 12,000 total burden hours.

Dated: March 26, 2012.
Alvin Foster,
Assistant Director for Information Resources.

[FR Doc. 2012-7683 Filed 3-29-12; 8:45 am]

BILLING CODE 4310-6W-P